DEPARTMENT OF ENERGY

Federal Energy Regulatory Commission

[Project No. 12067-001]

BAE Energy; Notice of Surrender of Preliminary Permit

July 26, 2002.

Take notice that BAE Energy, permittee for the proposed Leishman Drop Project, has requested that its preliminary permit be terminated. The permit was issued on October 22, 2001, and would have expired on September 30, 2004. The project would have been located on the Saint Mary Canal System in Glacier County, Montana.

The permittee filed the request on June 24, 2002, and the preliminary permit for Project No. 12067 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Linwood A. Watson, Jr.,
Deputy Secretary.

[FR Doc. 02-19409 Filed 7-31-02; 8:45 am]

BILLING CODE 6717-01-P